DEPARTMENT OF COMMERCE

Office of the Secretary

15 CFR Part 6

[Docket No.: 0612213340-6339-01]

RIN 0690-AA35

Civil Monetary Penalties; Adjustments

AGENCY: Office of the Secretary, Commerce.

ACTION: Final rule.

SUMMARY: This final rule is being issued to adjust civil monetary penalties (CMPs) provided by law within the jurisdiction of the Department of Commerce (the Department). Recent changes to the International Emergency Economic Powers Act (IEEPA), as amended by the USA PATRIOT Improvement and Reauthorization Act of 2005 (Patriot Act), Public Law 109-177, increased the penalties for two violations. The intent of this rule is to make the Department's regulations consistent with those changes.

DATES: This rule is effective January 9, 2007.

ADDRESSES: Office of General Counsel, Department of Commerce, 1401 Constitution Avenue, NW., MS 5876, Washington, DC 20230.

FOR FURTHER INFORMATION CONTACT: Peter Robbins, 202-482-0846.

SUPPLEMENTARY INFORMATION: As part of its obligations under the Federal Civil Penalties Inflation Adjustment Act of 1990, Public Law 101-410, as amended by the Debt Collection Improvement Act of 1996, the Department regularly evaluates CMPs to ensure that they continue to maintain their deterrent value and that penalty amounts due to the Federal Government are properly accounted for and collected. Under some circumstances, the Department may also need to adjust a portion of the CMPs within its jurisdiction in order to make them consistent with statutory changes.

The recent Patriot Act adjusted certain CMPs under IEEPA. A civil monetary penalty is defined as any penalty, fine, or other sanction that:

1. Is for a specific monetary amount as provided by Federal law;

2. Is assessed or enforced pursuant to Federal law; and

3. Is assessed or enforced pursuant to an administrative proceeding or a civil action in the Federal courts.

This rule adjusts the affected CMPs that are codified at 15 CFR 6.4(a)(4) and 15 CFR 6.4(a)(5) in order to make them consistent with the statutory changes. The actual penalty assessed for a particular violation will continue to be dependent upon a variety of factors.

Rulemaking Requirements

It has been determined that this rule is not significant for purposes of Executive Order 12866.

Pursuant to 5 U.S.C. 553(b)(B), the Department for good cause finds that notice and an opportunity for comment required by the Administrative Procedure Act are unnecessary for this rulemaking. It is unnecessary to ask for notice and comment because the USA Patriot Act changed two CMPs within the Department's jurisdiction. As such, the corresponding changes to the Department's regulations are wholly non-discretionary. This rule merely adjusts the Department's CMPs according to the statutory mandate. For the same reasons, there exists good cause to waive the thirty day delay in effectiveness of the rule, pursuant to 5 U.S.C. 553(d)(3).

Because notice and opportunity for comment are not required by 5 U.S.C. 553, or any other law, a Regulatory Flexibility Analysis is not required and none was prepared.

This rule does not contain information collection requirements for purposes of the Paperwork Reduction Act.

List of Subjects in 15 CFR Part 6

Law enforcement, Penalties.

Lisa Casias,
Deputy Chief Financial Officer and Director for Financial Management.

For the reasons set forth in the preamble, subtitle A of Title 15 of the Code of Federal Regulations is amended as follows:

PART 6—CIVIL MONETARY PENALTY INFLATION ADJUSTMENTS

1. The authority citation for part 6 continues to read as follows:

Authority: Sec. 4, as amended, and sec. 5, Pub. L. 101-410, 104 Stat. 890 (28 U.S.C. 2461 note); Pub. L. 104-134, 110 Stat. 1321, 28 U.S.C. 2461 note.

2. Section 6.4 is amended by revising the introductory text and paragraphs (a)(4) and (a)(5) to read as follows:

§ 6.4 Adjustments to penalties.

The civil monetary penalties provided by law within the jurisdiction of the respective agencies or bureaus of the Department, as set forth below in this section, are hereby adjusted in accordance with the inflation adjustment procedures prescribed in Section 5, from the amounts of such penalties in effect prior to December 14, 2004, to the amounts of such penalties, as thus adjusted, except for the penalties stated in paragraphs (a)(4) and (a)(5) which became adjusted on March 9, 2006.

(a) * * *

(4) 50 U.S.C. 1705(a), International Emergency Economic Powers Act—Export Administration Regulation Violation, from $11,000 to $50,000.

(5) 50 U.S.C. 1705(a), International Emergency Economic Powers Act—Chemical Weapons Convention Implementation Act, Import Restriction Violation, from $11,000 to $50,000.

* * * * *

[FR Doc. E7-85 Filed 1-8-07; 8:45 am]

BILLING CODE 3510-17-P